INTERNATIONAL TRADE COMMISSION

[Investigation No. 337-TA-890]

Certain Sleep-Disordered Breathing Treatment Systems and Components Thereof; Commission Determination Not To Review an Initial Determination Granting an Unopposed Motion of Complainants Resmed Corp., Resmed Inc., and Resmed Ltd. To Amend the Complaint

AGENCY: U.S. International Trade Commission.

ACTION: Notice.

SUMMARY: Notice is hereby given that the U.S. International Trade Commission has determined not to review an initial determination (“ID”) (Order No. 4) of the presiding administrative law judge granting an unopposed motion of complainants Resmed Corp., Resmed Inc., and Resmed Ltd. to amend the complaint in the above-captioned investigation.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on Friday, August 23, 2013, based on a complaint filed on July 19, 2013, on behalf of ResMed Corp. of San Diego, California; ResMed Inc. of San Diego, California; and ResMed Ltd. of Bella Vista, Australia (collectively, “Complainants”). 78 FR 52563 (August 23, 2013). The complaint alleged violations of Section 337 of the Tariff Act of 1930, as amended, 19 U.S.C. 1337, in the sale for importation, importation, or sale within the United States after importation of certain sleep-disordered breathing treatment systems and components thereof by reason of infringement of one or more of claims 32-37, 53, 79, 80, and 88 of U.S. Patent No. 7,997,267; claims 1-7 of U.S. Patent No. 7,614,398; claim 1 of U.S. Patent No. 7,938,116; claims 30, 37, and 38 of U.S. Patent No. 7,341,060; claims 1, 3, 5, 11, 28, 30, 31, and 56 of U.S. Patent No. 8,312,883; claims 13, 15, 16, 26-28, 51, 52, and 55 of U.S. Patent No. 7,926,487; claims 1, 3, 6, 7, 9, 29, 32, 35, 40, 42, 45, 50, 51, 56, 59, 89, 92, 94, and 96 of U.S. Patent No. 7,178,527; and claims 19-24, 26, 29-36, and 39-41 of U.S. Patent No. 7,950,392. The Commission's notice of investigation named as respondents BMC Medical Co., Ltd. of Beijing, China; 3B Medical, Inc. of Lake Wales, Florida; and 3B Products, L.L.C. of Lake Wales, Florida (collective, “the Respondents”). A Commission investigative attorney (“IA”) is also participating in this investigation.

On October 30, 2013, Complainants filed an unopposed motion to amend the Complaint to correct an error in its allegations regarding the domestic industry. The motion stated that neither the Respondents nor the IA opposed the motion to amend. On November 21, 2013, the ALJ issued an ID, finding good cause shown and granting Complainants' motion. There were no petitions for review.

Having considered the ID, the Commission has determined not to review the subject ID.

This action is taken under the authority of section 337 of the Tariff Act of 1930, as amended (19 U.S.C. 1337), and § 210.42 of the Commission's Rules of Practice and Procedure (19 CFR 210.42).

By order of the Commission.
Issued: December 13, 2013.
Lisa R. Barton,
Acting Secretary to the Commission.

[FR Doc. 2013-30115 Filed 12-18-13; 8:45 am]

BILLING CODE 7020-02-P